DEPARTMENT OF TRANSPORTATION

Surface Transportation Board

[STB Finance Docket No. 34740]

The Kansas City Southern Railway Company—Temporary Trackage Rights Exemption—Union Pacific Railroad Company

Union Pacific Railroad Company (UP) has agreed to grant non-exclusive, overhead, temporary trackage rights to The Kansas City Southern Railway Company (KCS), over a portion of UP's rail line between UP milepost 230.8 (UP's Lufkin Subdivision), in Shreveport, LA, and UP milepost 217.4, at TRE Junction (UP's Dallas Subdivision), in Dallas, TX, a distance of approximately 192 miles.

The transaction was scheduled to be consummated on August 4, 2005, and the temporary trackage rights will expire on or about November 1, 2005. The purpose of the temporary trackage rights is to bridge KCS's trains while KCS's main lines are out of service due to programmed track, roadbed and structural maintenance.

As a condition to this exemption, any employees affected by the acquisition of the temporary trackage rights will be protected by the conditions imposed in Norfolk and Western Ry. Co.—Trackage Rights—BN, 354 I.C.C. 605 (1978), as modified in Mendocino Coast Ry., Inc.—Lease and Operate, 360 I.C.C. 653 (1980), and any employees affected by the discontinuance of those trackage rights will be protected by the conditions set out in Oregon Short Line R. Co.—Abandonment—Goshen, 360 I.C.C. 91 (1979).

This notice is filed under 49 CFR 1180.2(d)(8). If it contains false or misleading information, the exemption is void ab initio. Petitions to revoke the exemption under 49 U.S.C. 10502(d) may be filed at any time. The filing of a petition to revoke will not automatically stay the transaction.

An original and 10 copies of all pleadings, referring to STB Finance Docket No. 34740, must be filed with the Surface Transportation Board, 1925 K Street, NW., Washington, DC 20423-0001. In addition, a copy of each pleading must be served on William A. Mullins, Baker and Miller, PLLC, 2401 Pennsylvania Avenue, NW., Suite 300, Washington, DC 20037.

Board decisions and notices are available on our Web site at http://www.stb.dot.gov.

Decided: August 10, 2005.
By the Board, David M. Konschnik, Director, Office of Proceedings.
Vernon A. Williams,
Secretary.

[FR Doc. 05-16283 Filed 8-16-05; 8:45 am]

BILLING CODE 4915-01-P